AGENCY FOR INTERNATIONAL DEVELOPMENT

Notice of Public Information Collection Requirements Submitted to OMB for Review

SUMMARY: Agency for International Development (USAID) has submitted the following information collection to OMB for review and clearance under the Paperwork Reduction Act of 1995, Pub. L. 104-13. Comments regarding this information collection are best assured of having their full effect if received within 30 days of this notification. Comments should be addressed to: Desk Officer for USAID, Office of Information and Regulatory Affairs, Office of Management and Budget (OMB), Washington, DC 20503. Copies of the information collection and supporting documents may be obtained by calling (202) 712-1365.

SUPPLEMENTARY INFORMATION: OMB Number: OMB 0412-0555.

Form Number: N/A.

Title: Monthly Commodity Status Report/Monthly Recipient Status Report.

Type of Submission: Renewal of information collection.

Purpose: The Monthly Commodity Status Report/Monthly Recipient Status Report (MCSR/MRSR) allow the Office of Food for Peace (FFP) to track exactly how commodities are distributed. The Cooperating Sponsor submits an Annual Estimate of Requirements (AER) each year. The AER is an estimate of how much food is needed for a specified number of beneficiaries in a particular country. The MCSR/MRSR allows FFP to track the commodities from the amount requested on the AER to what is actually distributed. The MCSR tracks the commodities for each program and the MRSR tracks the number of recipients or beneficiaries reached each month under each FFP program.

Annual Reporting Burden:

Respondent: 20.

Total annual responses: 240.

Total annual hours requested: 24 hours.

Dated: March 4, 2003.
Joanne Paskar,
Chief, Information and Records Division, Office of Administrative Services, Bureau of Management.

[FR Doc. 03-5939 Filed 3-11-03; 8:45 am]

BILLING CODE 6116-01-M